SOCIAL SECURITY ADMINISTRATION

President's Commission To Strengthen Social Security

AGENCY: Social Security Administration (SSA).

ACTION: Announcement of meeting location.

DATES: November 9, 2001, 10 a.m.-3:30 p.m.

ADDRESSES: Park Hyatt Ballroom, Park Hyatt Washington, 24th at M Street NW., Washington, DC 20037, (202) 789-1234.

SUPPLEMENTARY INFORMATION: The October 23, 2001 Federal Register notice (Volume 66, Number 205, Pages 53650-53651) announcing the November 9 meeting of the President's Commission to Strengthen Social Security did not include a meeting location. The purpose of this announcement is to provide the meeting location.

The Commission will meet commencing Friday, November 9, at 10 a.m. and ending at 3:30 p.m., with a break for lunch between 1 p.m. and 2 p.m. The Commission will be deliberating on Social Security reform options, including how to administer personal accounts.

Dated: October 23, 2001.
Michael A. Anzick,
Designated Federal Officer.

[FR Doc. 01-27224 Filed 10-26-01; 8:45 am]

BILLING CODE 4191-02-U